DEPARTMENT OF ENERGY

Electricity Advisory Committee

AGENCY: Department of Energy, Office of Electricity.

ACTION: Notice of open meeting.

SUMMARY: This notice announces a hybrid open meeting of the Electricity Advisory Committee (EAC). The Federal Advisory Committee Act (FACA) requires that public notice of these meetings be announced in the Federal Register.

DATES: Wednesday, February 15, 2023; 1:00 p.m.-5:30 p.m. EST.

Thursday, February 16, 2023; 8:00 a.m.-12:30 p.m. EST.

ADDRESSES: National Rural Electric Cooperative Association Headquarters, 4301 Wilson Blvd., Suite 1, Arlington, VA 22203.

Members of the public are encouraged to participate virtually, however, limited physical space is available for members of the public to attend onsite. To register to attend either in-person or virtually, please visit the meeting website: February 15-16, 2023 Electricity Advisory Committee Meeting | Department of Energy. Please note, you must register for each day you would like to attend.

FOR FURTHER INFORMATION CONTACT: Jayne Faith, Designated Federal Officer, Office of Electricity, U.S. Department of Energy, Washington, DC 20585; Telephone: (202) 586-2983 or Email: Jayne.Faith@hq.doe.gov.

SUPPLEMENTARY INFORMATION:

Purpose of the Committee: The EAC was established in accordance with the provisions of FACA, to provide advice to the U.S. Department of Energy (DOE) in implementing the Energy Policy Act of 2005, executing certain sections of the Energy Independence and Security Act of 2007, and modernizing the nation's electricity delivery infrastructure. The EAC is composed of individuals of diverse backgrounds selected for their technical expertise and experience, established records of distinguished professional service, and their knowledge of issues that pertain to the electric sector.

Tentative Agenda

February 15, 2023

12:45 p.m.-1:00 p.m. WebEx Attendee Sign-On

1:00 p.m.-1:15 p.m. Welcome, Introductions, Developments since October Meeting

1:15 p.m.-2:15 p.m. Update from the Office of Electricity

2:15 p.m.-3:15 p.m. Distribution and Design Presentation

3:15 p.m.-3:30 p.m. Break

3:30 p.m.-5:00 p.m. North American Resiliency Model (NAERM) Presentation

5:00 p.m.-5:15 p.m. Wrap-up and Adjourn Day 1

February 16, 2023

7:45 a.m.-8:00 a.m. WebEx Attendee Sign-On

8:00 a.m.-8:15 a.m. Opening Remarks

8:15 a.m.-10:00 a.m. Hurricane Resilience EAC Panel Discussion

10:00 a.m.-11:00 a.m. Energy Storage Subcommittee Update and EAC Vote on Biennial Storage Review

11:00 a.m.-11:15 a.m. Break

11:15 a.m.-11:45 a.m. Smart Grid Subcommittee Update and Vote on 8008 Pathways Additional Information: Approach

11:45 p.m.-12:00 p.m. Grid Resilience for National Security Subcommittee Update

12:00 p.m.-12:20 p.m. Public Comments

12:20 p.m.-12:30 p.m. Wrap-up and Adjourn February Meeting of the EAC

The meeting agenda and times may change to accommodate EAC business. For EAC agenda updates, see the EAC website at February 15-16, 2023 Electricity Advisory Committee Meeting | Department of Energy.

Public Participation: The EAC welcomes the attendance of the public at its meetings. Individuals who wish to offer public comments at the EAC meeting may do so on February 16, but must register in advance by 5:00 p.m. Eastern time on February 15. Approximately 20 minutes will be reserved for public comments. Time allotted per speaker will depend on the number who wish to speak but is not expected to exceed three minutes. Anyone who is not able to attend the meeting, or for whom the allotted public comments time is insufficient to address pertinent issues with the EAC, is invited to send a written statement identified by “Electricity Advisory Committee February 2023 Meeting,” to Ms. Jayne Faith at Jayne.Faith@hq.doe.gov.

Minutes: The minutes of the EAC meeting will be posted on the EAC web page at February 15-16, 2023 Electricity Advisory Committee Meeting | Department of Energy. They can also be obtained by contacting Ms. Jayne Faith at the address above.

Signed in Washington, DC, on January 19, 2023.
LaTanya R. Butler,
Deputy Committee Management Officer.

[FR Doc. 2023-01439 Filed 1-24-23; 8:45 am]

BILLING CODE 6450-01-P